NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before November 26, 2008. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001.

E-mail: request.schedule@nara.gov.

FAX: 301-837-3698.

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1228.24(b)(3).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Homeland Security, Office of Policy (N1-563-08-16, 2 items, 2 temporary items). Applications of individuals not selected for open positions on Federal Advisory Committee Act committees. Applications of individuals who are selected are scheduled as permanent under General Records Schedule 26.

2. Department of Homeland Security, Office of Security (N1-563-08-9, 3 items, 3 temporary items). Records associated with background security checks of contractors and blueprints, floor plans, and drawings of agency headquarters facilities.

3. Department of Homeland Security, Transportation Security Administration (N1-560-08-3, 8 items, 7 temporary items). Master files for Secure Flight, an electronic information system used to conduct pre-flight checks of passengers and non-traveling individuals involved in passenger aviation for the purpose of detecting individuals who may pose a terrorist threat. Proposed for permanent retention are planning and implementation files documenting the creation of the Secure Flight program and its major policy decisions.

4. Department of Homeland Security, U.S. Coast Guard (N1-26-08-3, 3 items, 3 temporary items). Records created by the Navigation Center when the Long Range Navigation (LORAN) signal is unusable.

5. Department of Housing and Urban Development, Office of Single Family Housing (N1-207-08-3, 20 items, 17 temporary items). Data marts and outputs of an electronic data warehouse which contains information about single family home mortgage insurance cases. Consolidated single family home mortgage insurance case-level data is proposed for permanent retention. The proposed disposition instructions are limited to electronic records for the consolidated case-level data.

6. Department of the Interior, National Park Service (N1-79-08-7, 6 items, 2 temporary items). Records relating to National Assistance programs and technical and financial assistance functions, excluding records relating to National Park Service-managed structures or areas. Proposed for permanent retention are records relating to significant policies and procedures, grants, reporting of human remains and funerary objects by Federal agencies and museums, and case files on historic structures.

7. Department of Justice, Justice Management Division (N1-60-07-6, 2 items, 2 temporary items). Attorney Student Loan Repayment Program case files.

8. Department of Justice, Federal Bureau of Investigation (N1-65-07-16, 6 items, 6 temporary items). Applicant case files and related records for successful and unsuccessful applicants for employment, including an electronic information system containing information concerning applicants.

9. Department of Labor, Occupational Safety and Health Administration (N1-100-08-2, 3 items, 3 temporary items). Records relating to programs of the Office of Federal Agency Programs, Field Federal Safety and Health Councils (FFSHC), including files maintained by the FFSHC National Office and Regional Offices. Records consist of annual reports, charter requests, administrative files, and related records.

10. Department of the Navy, Agency-wide (N1-NU-08-5, 4 items, 4 temporary items). Routine military police and investigative records, including such files as field interview records, registration and permit records, and records relating to traffic violations and citations.

11. Department of the Navy, U.S. Marine Corps (N1-127-08-6, 2 items, 2 temporary items). Master files and outputs of an electronic information system used to issue duty orders, change of station orders, and similar orders to Marine Corps reserve personnel.

12. Department of State, Bureau of Overseas Buildings Operations (N1-59-08-16, 12 items, 10 temporary items). Records of the Office of Real Estate, including master files of an electronic information system used to manage real estate assets and files relating to overseas properties leased by the U.S. Proposed for permanent retention are historically significant long term lease files and title deed files.

13. Department of State, Bureau of Overseas Buildings Operations (N1-59-09-2, 14 items, 13 temporary items). Records of the Office of Operations, including the master files of electronic systems related to overseas property management, logs, registers and other correspondence trackers, inspection reports, and general files documenting the condition and management of posts. Proposed for permanent retention are publications documenting the Art in Embassies program. The proposed disposition instructions for publications are limited to paper records.

14. Department of State, Office of the Legal Adviser (N1-59-08-13, 13 items, 12 temporary items). Records of the Legal Adviser for Ethics and Employment Law, including personnel grievance, complaint, and arbitration case files, and ethics and public disclosure subject and case files. Proposed for permanent retention are employment law subject files. The proposed disposition instructions are limited to paper records for the employment law subject files.

15. Department of Transportation, Federal Highway Administration (N1-406-08-9, 10 items, 8 temporary items). Records of the Office of Public Affairs, including administrative files, drafts, briefing materials, correspondence, research files, and working papers. Proposed for permanent retention are press releases and speeches.

16. Department of the Treasury, Departmental Offices (N1-56-08-4, 1 item, 1 temporary item). Master file for an electronic system used to expedite the allocation of resources and submission of invoices for joint operations funded by the Treasury Forfeiture Fund.

17. Department of the Treasury, Internal Revenue Service (N1-58-08-15, 2 items, 2 temporary items). Master file and outputs for the Midwest Automated Compliance System, which is used to retrieve and sort tax return data to identify compliance issues.

18. Environmental Protection Agency, Regions (N1-412-08-13, 2 items, 2 temporary items). Records accumulated in developing transportation control plans and transportation conformity determinations.

19. Environmental Protection Agency, Office of Environmental Information (N1-412-07-24, 2 items, 2 temporary items). This schedule authorizes the agency to apply the existing disposition instructions to records regardless of the recordkeeping medium. Included are records accumulated in connection with information collection requests and reports submitted to the Office of Management and Budget and the Congress. Paper versions of these records were previously approved for disposal.

20. National Archives and Records Administration, Office of Records Services—Washington, DC (N1-64-08-9, 3 items, 3 temporary items). Records associated with the Reservation Scheduling System used by staff in the Center for the National Archives Experience. Included are reservations for tours data, transmittals and confirmation letters, and reports.

21. National Archives and Records Administration, Office of Administration (N1-64-08-13, 1 item, 1 temporary item). Credit card files consisting of applications, account maintenance records, periodic reviews, and related information.

22. Nuclear Regulatory Commission, Agency-wide (N1-431-08-14, 2 items, 2 temporary items). Master files and outputs of electronic information systems that maintain information on incidents and the status of licensed plants for use by agency inspectors.

Dated: October 21, 2008.
Michael J. Kurtz,
Assistant Archivist for Records Services—Washington, DC.

[FR Doc. E8-25571 Filed 10-24-08; 8:45 am]

BILLING CODE 7515-01-P